SMALL BUSINESS ADMINISTRATION

[Declaration of Disaster #P012]

State of Florida; Amendment #2

In accordance with notices received from the Department of Homeland Security—Federal Emergency Management Agency, effective August 22, 2003, August 29, 2003, and September 3, 2003, the above numbered declaration is hereby amended to include Hernando County in the State of Florida as a disaster area due to damages caused by severe storms and flooding, and to establish the incident period for this disaster as beginning June 13, 2003 and continuing through August 22, 2003.

In addition, the above numbered declaration is hereby amended to include Dixie and Taylor Counties in the State of Florida for emergency protective measures (Category B) under the Public Assistance program.

All other information remains the same, i.e., the deadline for filing applications for physical damage is September 29, 2003.

(Catalog of Federal Domestic Assistance Program Nos. 59008).
Dated: September 8, 2003.
Herbert L. Mitchell,
Associate Administrator for Disaster Assistance.

[FR Doc. 03-23279 Filed 9-11-03; 8:45 am]

BILLING CODE 8025-01-U